DEPARTMENT OF TRANSPORTATION

Federal Aviation Administration

14 CFR Part 193

[Docket No. FAA-2009-0245]

Voluntary Disclosure Reporting Program; National Wildlife Aircraft Hazard Database

AGENCY: Federal Aviation Administration (FAA), DOT.

ACTION: Notice of determination not to proceed with proposed order designating information as protected from disclosure.

SUMMARY: The FAA proposed that bird strike information voluntarily reported to the Agency and entered into the FAA's National Wildlife Aircraft Hazard Database be designated by an FAA order as protected from public disclosure in accordance with the provisions of 14 CFR part 193. After further review and consideration, the FAA has determined not to proceed with an order designating the wildlife database as protected under part 193.

FOR FURTHER INFORMATION CONTACT: John Weller, Airport Safety and Operations Division, AAS-300, Federal Aviation Administration, 800 Independence Ave., SW., Washington, DC 20591, telephone (202) 267-3778.

SUPPLEMENTARY INFORMATION:

Availability of This Notice

You can get an electronic copy of this notice using the Internet by:

(1) Searching the Department of Transportation's electronic Docket Management System (DMS) Web page (http://dms.dot.gov/search);

(2) Visiting the FAA's Regulations and Policies Web page at http://www.faa.gov/regulations-policies/; or

(3) Accessing the Government Printing Office's Web page at http://www.gpoaccess.gov/fr/index.html.

Background

Under 49 U.S.C. 40123, certain voluntarily provided safety and security information is protected from disclosure to encourage persons to provide the information to the FAA. The FAA must issue an order to make certain findings before the information is protected from disclosure. The FAA's rules implementing that section are in 14 CFR part 193. If the Administrator issues an order designating information as protected under 49 U.S.C. 40123, that information will not be disclosed under the Freedom of Information Act (5 U.S.C. 552) or other laws except as provided in 49 U.S.C. 40123 and 14 CFR part 193.

On March 19, 2009, the FAA published a proposed order that, if adopted, would have designated certain information in the FAA's wildlife database as information protected under part 193. This proposed order was issued under 14 CFR 193.111, which sets out the notice procedure for designating information as protected. The FAA invited interested persons to participate in this proposal by submitting written comments, data, or views. We also invited comments relating to the economic, environmental, energy, or federalism impacts that might result from adopting the proposals in this document. The comment period concluded on April 20, 2009. The FAA received 47 comments, the majority of which were not in favor of protecting the database.

After further review and consideration, the FAA has determined not to proceed with an order designating information in the National Wildlife Aircraft Strike database as protected under part 193 at this time. The FAA will modify the public Wildlife Aircraft Strike Web site to make the database available to all users consistent with the Freedom of Information Act (FOIA) and Agency policy.

Issued in Washington, DC, on April 22, 2009.
Catherine M. Lang,
Acting Associate Administrator for Airports.

[FR Doc. E9-9638 Filed 4-24-09; 8:45 am]

BILLING CODE P